ENVIRONMENTAL PROTECTION AGENCY

40 CFR Part 300

[EPA-HQ-SFUND-1986-0005; FRL-9903-02-Region 5]

National Oil and Hazardous Substances Pollution Contingency Plan; National Priorities List: Deletion of the Columbus Old Municipal Landfill #1 Superfund Site

AGENCY: U.S. Environmental Protection Agency (EPA).

ACTION: Direct final rule.

SUMMARY: The U.S. Environmental Protection Agency Region 5 is publishing a direct final Notice of Deletion of the Columbus Old Municipal Landfill #1 Superfund Site (Site) located in Bartholomew County, Indiana from the National Priorities List (NPL). The NPL, promulgated pursuant to Section 105 of the Comprehensive Environmental Response, Compensation, and Liability Act (CERCLA) of 1980, as amended, is an appendix of the National Oil and Hazardous Substances Pollution Contingency Plan (NCP). This direct final deletion is being published by EPA with the concurrence of the State of Indiana, through the Indiana Department of Environmental Management (IDEM), because EPA has determined that all appropriate response actions under CERCLA, other than operation, maintenance, and five-year reviews, have been completed. However, this deletion does not preclude future actions under Superfund.

DATES: This direct final deletion is effective January 24, 2014 unless EPA receives adverse comments by December 26, 2013. If adverse comments are received, EPA will publish a timely withdrawal of the direct final deletion in the Federal Register informing the public that the deletion will not take effect.

ADDRESSES: Submit your comments, identified by Docket ID No. EPA-HQ-SFUND-1986-0005, by one of the following methods:

• http://www.regulations.gov: Follow online instructions for submitting comments.

• Email: Bernard Schorle, Remedial Project Manager, at schorle.bernard@epa.gov or Janet Pope, Community Involvement Coordinator, at pope.janet@epa.gov.

• Fax: Gladys Beard, NPL Deletion Process Manager, at (312) 697-2077.

• Mail: Bernard Schorle, Remedial Project Manager, U.S. Environmental Protection Agency (SR-6J), 77 West Jackson Boulevard, Chicago, IL 60604, (312) 886-4746 or Janet Pope, Community Involvement Coordinator, U.S. Environmental Protection Agency (SI-7J), 77 West Jackson Boulevard, Chicago, IL 60604, (312) 353-0628 or toll free at 1 (800) 621-8431.

• Hand delivery: Janet Pope, Community Involvement Coordinator, U.S. Environmental Protection Agency (SI-7J), 77 West Jackson Boulevard, Chicago, IL 60604. Such deliveries are only accepted during the docket's normal hours of operation, and special arrangements should be made for deliveries of boxed information. The normal hours are Monday through Friday, 8:30 a.m. to 4:30 p.m. CST, excluding federal holidays.

Instructions: Direct your comments to Docket ID no. EPA-HQ-SFUND-1986-0005. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in the hard copy. Publicly available docket materials are available either electronically at http://www.regulations.gov or in hard copy at:

• U.S. Environmental Protection Agency Region 5, 77 West Jackson Boulevard, Chicago, IL 60604, Phone: (312) 353-1063, Hours: Monday through Friday, 8:30 a.m. to 4:30 p.m. CST, excluding federal holidays.

• Bartholomew County Public Library, 536 Fifth Street, Columbus, IN 47201, Phone: (812) 379-1255, Hours: Monday through Thursday, 8:30 a.m. to 9:00 p.m. EST; Friday and Saturday, 8:30 a.m. to 6:00 p.m. EST; and Sunday, 1:00 p.m. to 4:00 p.m. EST.

FOR FURTHER INFORMATION CONTACT: Bernard Schorle, Remedial Project Manager, U.S. Environmental Protection Agency (SR-6J), 77 West Jackson Boulevard, Chicago, IL 60604, (312) 886-4746, schorle.bernard@epa.gov.

SUPPLEMENTARY INFORMATION:

Table of Contents

I. Introduction

II. NPL Deletion Criteria

III. Deletion Procedures

IV. Basis for Site Deletion

V. Deletion Action

I. Introduction

EPA Region 5 is publishing this direct final Notice of Deletion of the Columbus Old Municipal Landfill #1 Superfund Site (Site) from the National Priorities List (NPL) and requests public comments on this proposed action. The NPL constitutes Appendix B of 40 CFR part 300, which is the National Oil and Hazardous Substances Pollution Contingency Plan (NCP), which EPA promulgated pursuant to Section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). This deletion of the Columbus Old Municipal Landfill #1 Superfund Site is proposed in accordance with 40 CFR 300.425(e) and is consistent with the Notice of Policy Change: Deletion of Sites Listed on the National Priorities List, (51 FR 21054) on June 10, 1986. As described in 40 CFR 300.425(e)(3) of the NCP, sites deleted from the NPL remain eligible for Fund-financed remedial actions if future conditions warrant such actions.

Because EPA considers this action to be noncontroversial and routine, this action will be effective January 24, 2014 unless EPA receives adverse comments by December 26, 2013. Along with this direct final Notice of Deletion, EPA is co-publishing a Notice of Intent to Delete in the “Proposed Rules” section of the Federal Register. If adverse comments are received within the 30-day public comment period on this deletion action, EPA will publish a timely withdrawal of this direct final Notice of Deletion before the effective date of the deletion, and the deletion will not take effect. EPA will, as appropriate, prepare a response to comments and continue with the deletion process on the basis of the Notice of Intent to Delete and the comments already received. There will be no additional opportunity to comment.

Section II of this document explains the criteria for deleting sites from the NPL. Section III discusses procedures that EPA is using for this action. Section IV discusses the Columbus Old Municipal Landfill #1 Superfund Site and demonstrates how it meets the deletion criteria. Section V discusses EPA's action to delete the site from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the State, whether any of the following criteria have been met:

i. Responsible parties or other persons have implemented all appropriate response actions required;

ii. All appropriate Fund-financed response under CERCLA has been implemented, and no further response action by responsible parties is appropriate; or

iii. The remedial investigation has shown that the release poses no significant threat to public health or the environment and, therefore, the taking of remedial measures is not appropriate.

Pursuant to CERCLA Section 121(c) and the NCP, EPA conducts five-year reviews to ensure the continued protectiveness of remedial actions where hazardous substances, pollutants, or contaminants remain at a site above levels that allow for unlimited use and unrestricted exposure. EPA conducts such five-year reviews even if a site is deleted from the NPL. EPA may initiate further action to ensure continued protectiveness at a deleted site if new information becomes available that indicates it is appropriate. Whenever there is a significant release from a site deleted from the NPL, the deleted site may be restored to the NPL without application of the hazard ranking system.

III. Deletion Procedures

The following procedures apply to deletion of the Old Municipal Landfill #1 Superfund Site:

(1) EPA consulted with the State of Indiana prior to developing this direct final Notice of Deletion and the Notice of Intent to Delete co-published today in the “Proposed Rules” section of the Federal Register.

(2) EPA has provided the State 30 working days for review of this direct final Notice of Deletion and the parallel Notice of Intent to Delete prior to their publication today, and the State, through the Indiana Department of Environmental Management (IDEM), has concurred on the deletion of the Site from the NPL.

(3) Concurrently with the publication of this direct final Notice of Deletion, a notice of the availability of the parallel Notice of Intent to Delete is being published in a major local newspaper, The Republic. The newspaper notice announces the 30-day public comment period concerning the Notice of Intent to Delete the Site from the NPL.

(4) EPA placed copies of documents supporting the proposed deletion in the deletion docket and made these items available for public inspection and copying at the Site information repositories identified above.

(5) If adverse comments are received within the 30-day public comment period on this deletion action, EPA will publish a timely notice of withdrawal of this direct final Notice of Deletion before its effective date and will prepare a response to comments. EPA may continue with the deletion process on the basis of the Notice of Intent to Delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Columbus Old Municipal Landfill #1 Superfund Site from the NPL.

Site Background and History

The Columbus Old Municipal Landfill #1 Superfund Site (CERCLIS ID IND980607626) is located in Bartholomew County, Indiana, approximately one-quarter mile southwest of Columbus, Indiana. The Site is bounded to the west by farmland, with a small portion abutting State Road 11; to the east by the East Fork of the White River; to the north by 3rd Street Bridge; and to the south by a gravel quarry pond. The closest residence to the Site is less than one-half mile away. Approximately 33,000 people live within a three-mile radius of the Site. Private wells are located within one-half mile of the Site, and public wells for water supply are located within three miles.

The City of Columbus operated the Site from 1938 until 1966 and accepted household solid waste, along with commercial and industrial solid wastes, at the landfill. Municipal and industrial wastes may have included solvents, acids, bases, paints, and heavy metals. The wastes were deposited in the unlined landfill. Cover material, consisting of river sediment dredged from the adjacent East Fork of the White River, was placed over the fill material in the late 1960s.

In August 1981, the Cummins Engine Company (now Cummins Inc.) notified EPA under the provisions of Section 103(c) of CERCLA that the Site had received potentially hazardous industrial wastes. The Site was proposed to the NPL on September 18, 1985 (FR 50 37950) and finalized on June 10, 1986 (FR 51 21054). EPA, IDEM, and the three potentially responsible parties (PRPs) for the Site, Cummins Engine Company, City of Columbus, and Arvin Industries (now operating as ArvinMeritor), entered into an Administrative Order on Consent (AOC) in 1987. The AOC required the PRPs to conduct a remedial investigation/feasibility study (RI/FS) at the Site. EPA assumed the role of the lead enforcement agency and conducted oversight during the RI/FS.

Remedial Investigation and Feasibility Study

The remedial investigation (RI) commenced in October 1988. The RI report, which focused on surface soil, subsurface soil, groundwater, surface water, sediments, landfill waste, and possible leachate seeps, was finalized and approved by EPA in August 1990. Based on the results of the investigation, the baseline risk assessment indicated that the landfill posed no threat to human health or the environment in its condition at the time. EPA, therefore, concluded that no further action was needed at the Site, except for the installation of two additional monitoring wells and periodic monitoring of groundwater.

During the drafting of the feasibility study (FS), the PRPs requested that the remedial alternatives developed for the Site incorporate the potential placement of a road and bridge across the Site. This was to be considered because plans developed by the Indiana Department of Transportation, in cooperation with the City of Columbus, called for having a section of State Highway 46 re-routed over the northwest portion of the Site. EPA and IDEM agreed to the request and evaluated the potential environmental impacts of placing the road and bridge across the landfill in a separate report entitled “Technical Supplement to the Feasibility Study,” dated November 7, 1991. The FS report was finalized and approved in December 1991.

While the RI demonstrated that no unacceptable levels of contamination were present at the Site in its condition at the time, the FS and Technical Supplement concluded that placement of the road and bridge across the landfill could potentially result in future releases of contaminants into the environment as a result of the load induced by the roadway fill material.

Record of Decision Findings

The Record of Decision (ROD) for the Site was signed on March 31, 1992. The ROD selected the following remedy:

1. Installation of two groundwater monitoring wells to augment the existing well network;

2. Implementation of a groundwater monitoring program;

3. Implementation of a landfill cover inspection and maintenance program, including a provision for periodic leachate seep inspections;

4. Development of a groundwater recovery system implementation plan;

5. Implementation of deed restrictions on land and water use on the landfill; and

6. Installation of a fence with appropriate warning signs around the landfill.

Response Actions

A remedial design/remedial action work plan, approved in October 1993, was developed to guide implementation of the elements required in the ROD. Installation of the two additional monitoring wells was completed in November 1993, and the PRPs began bi-monthly monitoring and inspection of the Site in December 1993. EPA's pre-final inspection was conducted in August 1994, at which point the construction of the remedy was considered complete. The Site achieved construction completion with the signing of the Preliminary Close-Out Report on September 15, 1994. The PRPs continued bi-monthly monitoring and inspections until the construction of the new bridge and approach road over the landfill was completed in May 1999. The fence around the landfill was installed immediately following the completion of construction and prior to the opening of the bridge in April 1999. The warning signs along the fence were posted as specified. After the road and bridge construction was completed, the PRPs continued groundwater monitoring and inspection bi-monthly from May through October 1999 and then semi-annually through April 2003.

A Declaration of Restrictions and Covenants Upon Real Estate was signed by the land owners and filed in the Bartholomew County Office of Registrar of Deeds in June 1993, restricting land and water use on-site during and after the construction of the road and bridge. It was determined during the 2005 Five-Year Review (FYR), however, that this deed restriction encompassed only the southern portion of the landfill. As a result, an Environmental Protection Easement and Environmental Restrictive Covenant was drafted to restrict land and groundwater use on the northern portion of the landfill, now owned by the City of Columbus. This Covenant was executed by all necessary parties and filed in December 2010. With the filing of the Covenant and a final site inspection conducted in November 2009, the remedial action (RA) was considered complete. The final RA report was approved in January 2011.

Although the ROD stated that EPA would request the local municipality to enact a zoning ordinance to forbid use of the site and restrict drilling of groundwater wells, this was not necessary because the City of Columbus and the other owners of the Site agreed to restrict use and prohibit installation of groundwater wells at the Site by recording real estate restrictions. This achieved the remedial action objective by providing binding restrictions on current and future landowners.

Cleanup Goals

IDEM identified thirteen wells, eleven existing and two new wells, for bi-monthly monitoring in order to evaluate the potential impact on the landfill from the road and bridge construction activities. Groundwater monitoring data was collected from the thirteen wells between December 1993 and October 1999, which was before, during, and after the road and bridge construction activities at the Site. Based on the review of groundwater data before and after construction, there is no evidence that the construction activities had an effect on the groundwater quality or physical condition of the landfill Site.

In December 1999, the PRPs submitted a summary and review of groundwater data collected bi-monthly over the 1993-1999 time period. IDEM approved the report in January 2000. With the approval of the report, the monitoring program was changed to semi-annual sampling. Semi-annual sampling was conducted over the remainder of a five-year cycle, which commenced with the first bi-monthly sampling event during road and bridge construction in April 1998. The cycle was completed in April 2003 with the final groundwater-monitoring event.

IDEM approved the Final Remedial Action Completion Report submitted by the PRPs on January 31, 2011. The report summarized the groundwater monitoring and sampling work performed at the Site over the 11-year period. The report found no evidence that construction activities had an effect on the concentration and distribution of target compounds in groundwater at the Site. Since groundwater monitoring concentrations were consistently below the maximum contaminant levels and no additional actions were necessary, approval was granted by IDEM and EPA to permanently abandon the groundwater wells. This action was completed in November 2010, and the well abandonment activities were approved by IDEM in February 2011.

Operation and Maintenance

Landfill inspections will continue to be done annually in accordance with the October 2012 Operation and Maintenance Plan. The landfill cover and fence are inspected annually and following any major flooding event to verify cover integrity and look for signs of excessive trespassing or dumping of wastes. In addition, the annual inspections serve to determine compliance with the provisions of the Declaration of Restrictions and Covenants Upon Real Estate and the Environmental Protection Easement and Environmental Restrictive Covenant. These inspections also verify that the Site is not being used for prohibited activities and that the documents specifying the property use restrictions are still on record with the Bartholomew County Recorder.

Five-Year Review

The Site requires ongoing statutory FYRs because hazardous substances, pollutants, or contaminants remain onsite. FYRs were completed in August 2000, September 2005 and May 2010. The most recent FYR concluded that the selected remedy was protective of human health and the environment in the short term. However, an environmental restrictive covenant for the northern part of the landfill was needed for long-term protectiveness, which requires compliance with effective institutional controls (ICs). The environmental restrictive covenant was recorded in December 2010, and the October 2012 Operation and Maintenance Plan provides the procedures to be used for long-term stewardship.

Community Involvement

Public participation activities have been satisfied as required in CERCLA Section 113(k), 42 U.S.C. 9613(k), and CERCLA section 117, 42 U.S.C. 9617. Documents in the deletion docket which EPA relied on for recommendation of the deletion of this Site from the NPL are available to the public in the information repositories and at www.regulations.gov.

Determination That the Site Meets the Criteria for Deletion in the NCP

The implemented remedy achieves the degree of cleanup specified in the ROD for all pathways of exposure. All selected remedial action objectives and clean-up goals are consistent with Agency policy and guidance. No further Superfund response actions are needed to protect human health and the environment at the Site.

The NCP (40 CFR 300.425(e)) states that a site may be deleted from the NPL when no further response action is appropriate. EPA, in consultation with the State of Indiana, has determined that all required response actions have been implemented and no further action is appropriate.

V. Deletion Action

EPA with the concurrence of the State of Indiana, through IDEM, has determined that all appropriate response actions under CERCLA, other than operation, maintenance, and five-year reviews, have been completed. Therefore, EPA is deleting the Columbus Oil Municipal Landfill #1 Superfund Site from the NPL.

Because EPA considers this action to be noncontroversial and routine, EPA is taking it without prior publication. This action will be effective January 24, 2014 unless EPA receives adverse comments by December 26, 2013. If adverse comments are received within the 30-day public comment period, EPA will publish a timely withdrawal of this direct final Notice of Deletion before the effective date of the deletion, and it will not take effect. EPA will prepare a response to comments and continue with the deletion process on the basis of the Notice of Intent to Delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: September 16, 2013.
Susan Hedman,
Regional Administrator, Region 5.

For the reasons set out in this document, 40 CFR part 300 is amended as follows:

PART 300—[NATIONAL OIL AND HAZARDOUS SUBSTANCES POLLUTION CONTINGENCY PLAN]

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

Appendix B—[National Priorities List]

2. Table 1 of Appendix B to part 300 is amended by removing “Columbus Old Municipal Landfill #1”, “Columbus”.

[FR Doc. 2013-28142 Filed 11-22-13; 8:45 am]

BILLING CODE 6560-50-P